DEPARTMENT OF TRANSPORTATION

Federal Aviation Administration

14 CFR Part 39

[Docket No. FAA-2013-0460; Directorate Identifier 2012-NM-222-AD; Amendment 39-18054; AD 2014-26-03]

RIN 2120-AA64

Airworthiness Directives; Saab AB, Saab Aerosystems Airplanes

AGENCY: Federal Aviation Administration (FAA), Department of Transportation (DOT).

ACTION: Final rule.

SUMMARY: We are adopting a new airworthiness directive (AD) for all Saab AB, Saab Aerosystems Model 340B airplanes. This AD was prompted by a report that the elevator position quoted in an aircraft maintenance manual is incorrect and a report that the trunnion at the lower part of the control column was installed incorrectly. This AD requires an inspection of the stick pusher rigging and an inspection of the installation of the trunnion and the stick pusher rigging, and corrective actions if necessary. We are issuing this AD to correct the rigging of the elevator position of the stick pusher to reduce the probability of a negative effect on the handling quality during stall, which could result in reduced controllability of the airplane.

DATES: This AD becomes effective February 9, 2015.

The Director of the Federal Register approved the incorporation by reference of a certain publication listed in this AD as of February 9, 2015.

ADDRESSES: You may examine the AD docket on the Internet at http://www.regulations.gov/#!docketDetail;D=FAA-2013-0460 or in person at the Docket Management Facility, U.S. Department of Transportation, Docket Operations, M-30, West Building Ground Floor, Room W12-140, 1200 New Jersey Avenue SE., Washington, DC.

For service information identified in this AD, contact Saab AB, Saab Aeronautics, SE-581 88, Linköping, Sweden; telephone +46 13 18 5591; fax +46 13 18 4874; email saab340techsupport@saabgroup.com; Internet http://www.saabgroup.com. You may view this referenced service information at the FAA, Transport Airplane Directorate, 1601 Lind Avenue SW., Renton, WA. For information on the availability of this material at the FAA, call 425-227-1221.

FOR FURTHER INFORMATION CONTACT: Shahram Daneshmandi, Aerospace Engineer, International Branch, ANM-116, Transport Airplane Directorate, FAA, 1601 Lind Avenue SW., Renton, WA 98057-3356; telephone 425-227-1112; fax 425-227-1149.

SUPPLEMENTARY INFORMATION:

Discussion

We issued a supplemental notice of proposed rulemaking (SNPRM) to amend 14 CFR part 39 by adding an AD that would apply to all Saab AB, Saab Aerosystems Model 340B airplanes. The SNPRM published in the Federal Register on August 12, 2014 (79 FR 47025). We preceded the SNPRM with a notice of proposed rulemaking (NPRM) that published in the Federal Register on June 3, 2013 (78 FR 33010).

The European Aviation Safety Agency (EASA), which is the Technical Agent for the Member States of the European Union, has issued EASA Airworthiness Directive 2013-0253, dated October 18, 2013 (referred to after this as the Mandatory Continuing Airworthiness Information, or “the MCAI”), to correct an unsafe condition on all Saab AB, Saab Aerosystems Model 340B airplanes. The MCAI states:

The standard stick pusher maximum elevator position of a SAAB 340B, prior to delivery, is set at 7.5 degrees trailing edge down. It was recently discovered that this value has been incorrectly referenced in the SAAB 340B Aircraft Maintenance Manual (AMM), which quotes an elevator position of 4 degrees trailing edge down for all aeroplanes, which is the correct value for SAAB SF340A aeroplanes only.

If a SAAB 340B aeroplane has been re-rigged in accordance with current AMM procedure, there is a possibility that the deflection of the elevator will be less than intended.

This condition, if not corrected, will affect the stall characteristics on the outer part of the envelope at maximum flap setting and aft centre of gravity (CG) configuration, possibly resulting in reduced control of the aeroplane.

To address this potential unsafe condition, SAAB AB Aeronautics issued Service Bulletin (SB) 340-27-105 to reduce the probability of a negative effect on the handling quality during stall. Consequently, EASA issued AD 2012-0256 [http://www.regulations.gov/#!documentDetail;D=FAA-2013-0460-0002] to require a one-time inspection of the stick pusher rigging and, depending on findings, adjustment to the correct setting.

Since that [EASA] AD was issued, it has been reported that on some aeroplanes, during implementation of SB 340-27-105, the trunnion at the lower part of the control column was incorrectly installed. This prevents proper inspection of the stick pusher rigging.

Prompted by this finding, SAAB issued SB 340-27-115 with instructions for all aeroplanes, regardless whether SB 340-27-105 has been accomplished or not.

For the reasons described above, this [EASA] AD retains the requirements of EASA AD 2012-0256, which is superseded, but requires the use of the improved and expanded instructions specified in SAAB SB 340-27-115.

You may examine the MCAI in the AD docket on the Internet at http://www.regulations.gov/#!documentDetail;D=FAA-2013-0460-0005.

Comments

We gave the public the opportunity to participate in developing this AD. We received no comments on the SNPRM (79 FR 47025, August 12, 2014) or on the determination of the cost to the public.

Conclusion

We reviewed the relevant data and determined that air safety and the public interest require adopting this AD as proposed except for minor editorial changes. We have determined that these minor changes:

• Are consistent with the intent that was proposed in the SNPRM (79 FR 47025, August 12, 2014) for correcting the unsafe condition; and

• Do not add any additional burden upon the public than was already proposed in the SNPRM (79 FR 47025, August 12, 2014).

Costs of Compliance

We estimate that this AD affects 109 airplanes of U.S. registry.

We also estimate that it will take about 12 work-hours per product to comply with the basic requirements of this AD. The average labor rate is $85 per work-hour. Required parts will cost about $10 per product. Based on these figures, we estimate the cost of this AD on U.S. operators to be $112,270, or $1,030 per product.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0460; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-26-03 Saab AB, Saab Aerosystems: Amendment 39-18054. Docket No. FAA-2013-0460; Directorate Identifier 2012-NM-222-AD.

(a) Effective Date

This AD becomes effective February 9, 2015.

(b) Affected ADs

None.

(c) Applicability

This AD applies to Saab AB, Saab Aerosystems Model 340B airplanes, certificated in any category, all serial numbers.

(d) Subject

Air Transport Association (ATA) of America Code 27, Flight controls.

(e) Reason

This AD was prompted by a report that the elevator position quoted in an aircraft maintenance manual is incorrect and a report that the trunnion at the lower part of the control column was installed incorrectly. We are issuing this AD to correct the rigging of the elevator position of the stick pusher to reduce the probability of a negative effect on the handling quality during stall, which could result in reduced controllability of the airplane.

(f) Compliance

Comply with this AD within the compliance times specified, unless already done.

(g) Inspection

Within 24 months after the effective date of this AD, do a detailed inspection of the installation of the trunnion at the lower part of the control column and the stick pusher rigging, in accordance with the Accomplishment Instructions of Saab Service Bulletin 340-27-115, dated July 19, 2013.

(h) Corrective Actions

If, during the inspection required by paragraph (g) of this AD, an incorrect setting of the stick pusher maximum elevator position is found, or if the trunnion at the lower part of the control column is installed incorrectly, before further flight, accomplish all applicable corrective actions, in accordance with the Accomplishment Instructions of Saab Service Bulletin 340-27-115, dated July 19, 2013; except where Saab Service Bulletin 340-27-115, dated July 19, 2013, specifies to contact SAAB for corrective action, repair before further flight, using a method approved by the Manager, International Branch, ANM-116, Transport Airplane Directorate, FAA; or the European Aviation Safety Agency (EASA); or Saab AB, Saab Aerosystems' EASA Design Organization Approval (DOA). If approved by the DOA, the approval must include the DOA-authorized signature.

(i) Reporting Requirement

After accomplishing corrective actions as required by paragraph (h) of this AD, record any incorrect rigging value that was detected and send a report to: Saab AB, Business Area Support and Services, Air Division, Technical Support, email: Saab340.techsupport@saabgroup.com; fax: +46 (0) 13 18 48 74; at the applicable time specified in paragraph (i)(1) or (i)(2) of this AD.

(1) If the corrective action was done on or after the effective date of this AD: Submit the report within 30 days after accomplishing the corrective action.

(2) If the corrective action was done before the effective date of this AD: Submit the report within 30 days after the effective date of this AD.

(j) Other FAA AD Provisions

The following provisions also apply to this AD:

(1) Alternative Methods of Compliance (AMOCs): The Manager, ANM-116, International Branch, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, WA 98057-3356; telephone 425-227-1112; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Saab AB, Saab Aerosystems' EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Related Information

Refer to Mandatory Continuing Airworthiness Information (MCAI) EASA Airworthiness Directive 2013-0253, dated October 18, 2013, for related information. This MCAI may be found in the AD docket on the Internet at http://www.regulations.gov/#!documentDetail;D=FAA-2013-0460-0005.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Saab Service Bulletin 340-27-115, dated July 19, 2013.

(ii) Reserved.

(3) For service information identified in this AD, contact Saab AB, Saab Aeronautics, SE-581 88, Linköping, Sweden; telephone +46 13 18 5591; fax +46 13 18 4874; email saab340techsupport@saabgroup.com; Internet http://www.saabgroup.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 17, 2014.
Michael Kaszycki,
Acting Manager, Transport Airplane Directorate, Aircraft Certification Service.

[FR Doc. 2014-30428 Filed 1-2-15; 8:45 am]

BILLING CODE 4910-13-P